DEPARTMENT OF AGRICULTURE

Forest Service

Humboldt-Toiyabe National Forest; California and Nevada; Great Basin South Rangeland Project Analysis

AGENCY: Forest Service, USDA.

ACTION: Notice of intent to prepare an environmental impact statement.

SUMMARY: The Bridgeport Ranger District, Humboldt-Toiyabe National Forest will prepare an environmental impact statement (EIS) on a proposal to authorize continued livestock grazing on National Forest System lands east of Bridgeport, California. The project area is located in portions of Mineral and Lyon counties, Nevada, and portions of Mono County, California. The analysis will determine if a change in management direction for livestock grazing is needed to move existing resource conditions towards desired conditions. The Conway, East Walker, Huntoon, Larkin Lake, Masonic, Aurora, Nine Mile, Powell Mountain, Rough Creek, Whiskey Flat, and Wild Horse Allotments would continue to have authorized grazing. Squaw Creek Allotment would continue to be vacant.

DATES: Comments concerning the scope of the analysis must be received within 30 days from the date this notice is published in the Federal Register. The draft environmental impact statement is expected in September, 2005 and the final environmental impact statement is expected in December, 2005.

ADDRESSES: Send written comments to District Ranger, Bridgeport Ranger District, HCR 1 Box 1000, Bridgeport, California 93517.

FOR FURTHER INFORMATION CONTACT: Dave Loomis, Project Manager, Carson Ranger District, 1536 S. Carson Street, Carson City, Nevada 89701.

SUPPLEMENTARY INFORMATION:

Purpose and Need for Action

There is a need to maintain or improve the overall health of the rangeland in the project area. The purpose of this project is to determine the management direction for livestock grazing needed to move existing resource conditions within the project area towards desired conditions.

Proposed Action

The Bridgeport Ranger District, Humboldt-Toiyabe National Forest, is proposing to authorize continued cattle grazing on the 410,000 acre Great Basin South area under updated grazing management direction in order to move existing rangeland resource conditions within the project area toward desired condition. The updated direction will be incorporated in attendant grazing permits and allotment management plans to guide grazing management within the project area during the coming decade, or until amendments are warranted based on changed condition.

Possible Alternatives

In addition to the proposed action, two additional alternatives have been tentatively identified for analysis in the EIS:

1. No Action Alternative: Continue current grazing management.

2. No Grazing Alternative: Do not issue new grazing permits when existing permits expire.

Responsible Official

Forest Supervisor, Humboldt-Toiyabe National Forest, 1200 Franklin Way, Sparks, NV 89431.

Nature of Decision To Be Made

Based on the environmental analysis in the EIS, the Forest Supervisor will decide whether or not to continue grazing on the allotments within the Great Basin South Project area in accordance with the standards in the proposed action or as modified by additional mitigation measures and monitoring requirements.

Scoping Process

The Forest Service will mail information to interested parties. Public involvement will be ongoing throughout the analysis process and at certain times public input will be specifically requested. There are currently no scoping meetings planned.

Preliminary Issues

The following are some potential issues identified through internal Forest Service scoping based on our experience with similar projects. The list is not considered all-inclusive, but should be viewed as a starting point. We are asking you to help us further refine the issues and identify other issues or concerns relevant to the proposed project.

• Continued livestock grazing has the potential to adversely affect the health of riparian vegetation.

• Continued livestock grazing has the potential to adversely affect the health of rangeland vegetation.

• Continued livestock grazing has the potential to adversely affect sage grouse habitat.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, that at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 [1978]). Also, environmental objections that could be raised at the draft environmental impact statement stage, but that are not raised until after completion of the final environmental impact statement, may be waived or dismissed by the courts (City of Angoon v. Hodel, 803 F.2d 1016, 1022 [9th Cir. 1986] and Wisconsin Heritages, Inc. v. Harris, 490 F. Supp. 1334, 1338 [E.D. Wis. 1980]). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement, or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: May 12, 2005.
Randall M. Sharp,
Natural Resources Staff Officer.

[FR Doc. 05-9878 Filed 5-19-05; 8:45 am]

BILLING CODE 3410-11-P